DEPARTMENT OF DEFENSE

Department of the Army; Corps of Engineers

Withdrawal of Notice of Intent To Prepare an Environmental Impact Statement for the TransAlta Pit 7 Mine Completion Project at Centralia, WA

AGENCY: U.S. Army Corps of Engineers, DoD.

ACTION: Notice of intent; withdrawal.

SUMMARY: The permit applicant, TransAlta Centralia Mining LLC (TCM) has greatly reduced the scope of its proposed coal mining project at Centralia, Washington. Therefore, the U.S. Army Corps of Engineers (Corps) is withdrawing its Notice of Intent to prepare an environmental impact statement (EIS).

FOR FURTHER INFORMATION CONTACT: Mr. Jonathan Smith at the U.S. Army Corps of Engineers, Seattle Regulatory Branch, 4735 E. Marginal Way South, Seattle, Washington 98134, (206) 764-6910, or e-mail Jonathan.Smith@nws02.usace.army.mil. Mr. Mark Cline, at the Washington Department of Ecology, 300 Desmond Drive, SE., Lacey, Washington 98503, or e-mail mcli461@ecy.wa.gov

SUPPLEMENTARY INFORMATION: The Corps and Washington State Department of Ecology (Ecology) published a notice of intent in the April 7, 2006, issue of the Federal Register (71 FR 17840) to prepare an EIS on TCM's proposed Pit 7 Mining Project. Since that time, TCM's proposed project has evolved from a coal mining project, affecting over 100 acres of wetlands and streams, to a railroad upgrade project for importing coal from existing, already permitted mines in Montana and Wyoming. This modified proposal appears likely to affect less than three acres of wetlands. Therefore, the Corps and Ecology plan to conduct an environmental assessment of the proposed rail upgrade project during the first half of year 2007. An EIS would be prepared only if results of the environmental assessment indicate potentially significant, adverse environmental impacts.

Dated: January 5, 2007.
Michelle Walker,
Chief, Regulatory Branch, Seattle District.

[FR Doc. E7-632 Filed 1-17-07; 8:45 am]

BILLING CODE 3710-ER-P